FEDERAL COMMUNICATIONS COMMISSION

Notice of Public Information Collection(s) being Reviewed by the Federal Communications Commission

September 30, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 8, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0806.

Title: Universal Service—Schools and Libraries Universal Service Program.

Form Nos: FCC Forms 470 and 471.

Type of Review: Revision of a currently approved collection.

Respondents: Business or other for-profit, not-for-profit institutions, and state, local and tribal government.

Number of Respondents: 60,000.

Estimated Time Per Response: .166-4.5 hours.

Frequency of Response: On occasion reporting requirement, third party disclosure requirement and recordkeeping requirement.

Total Annual Burden: 480,000 hours.

Total Annual Cost: Not applicable.

Privacy Act Impact Assessment: Not applicable.

Needs and Uses: In the Fifth Report and Order in CC Docket No. 02-6, FCC 04-190, adopted on August 4, 2004 and released on August 13, 2004, the Commission is revising this collection pursuant to suggestions from the Department of Justice, in an effort to prevent waste, fraud, and abuse of the schools and libraries program. The changes made to the FCC Forms 470 and 471 will make the E-Rate process more transparent, and will make transgressions of the law easier to detect and prosecute. For example, on the FCC Form 470, applicants must now certify that they have not “received anything of value or a promise of anything of value, other than services and equipment sought by means of the form, from the service provider * * *” Similarly, in the FCC Form 471, applicants must now certify that “no kickbacks were paid to anyone * * *.” Finally, we are seeking OMB approval for an additional reporting element, i.e., the FCC Registration Number (FRN). As part of the review process of Funding Year 2005, the Administrator will be collecting the FRN from applicants to supplement their application. The Commission will implement a revised FCC Forms 470 and 471 to include collection of the FRN starting with Funding Year 2006.

Federal Communications Commission.
Marlene H. Dortch,
Secretary.

[FR Doc. 04-22595 Filed 10-6-04; 8:45 am]

BILLING CODE 6712-01-P